FEDERAL COMMUNICATIONS COMMISSION

47 CFR Part 73

[DA 00-2056; MM Docket No. 99-342; RM-9773, RM-9844]

Radio Broadcasting Services; George West, Pearsall and Victoria, TX

AGENCY: Federal Communications Commission.

ACTION: Final rule.

SUMMARY: At the request of John R. Furr, this substitutes Channel 281C3 for Channel 281A at Pearsall Texas, and modifies the outstanding construction permit (File No. BPH-960926MF) to operation on Channel 281C3. In order to accommodate this upgrade, this document also substitutes Channel 265A for Channel 281A at George West, Texas, and modifies the outstanding construction permit (File No. BPH-19940207MA) to specify operation on Channel 265A. See 64 FR 71097, published December 20, 1999. The reference coordinates for Channel 281C1 at Pearsall, Texas, are 28-44-52 and 98-50-13. The reference coordinates for Channel 265A at George West, Texas, are 28-24-26 and 98-10-05. Victoria Radio Works, Ltd., licensee of Station KEPG filed a Request to Withdraw Counterproposal for Channel 265A, Victoria, Texas, which was a one-step upgrade application to specify operation on Channel 265C3 (File No. BPH-19991020AAX).

DATES: Effective October 24, 2000.

ADDRESSES: Federal Communications Commission, Washington, DC 20554.

FOR FURTHER INFORMATION CONTACT: Robert Hayne, Mass Media Bureau (202) 418-2177.

SUPPLEMENTARY INFORMATION: This is a synopsis of the Commission's Report and Order in MM Docket No. 99-342, adopted August 30, 2000, and released September 8, 2000. The full text of this decision is available for inspection and copying during normal business hours in the FCC's Reference Information Center at Portals II, CY-A257, 445 12th Street, SW, Washington, D.C. The complete text of this decision may also be purchased from the Commission's copy contractor, International Transcription Service, Inc., (202) 857-3800, 1231 20th Street, NW, Washington, DC 20036.

List of Subjects in 47 CFR Part 73

Radio Broadcasting.

Part 73 of title 47 of the Code of Federal Regulations is amended as follows:

PART 73—[AMENDED]

1. The authority citation for part 73 continues to read as follows:

Authority: 47 U.S.C. 154, 303, 334, 336.

§ 73.202 [Amended]

2. Section 73.202(b), the Table of FM Allotments under Texas, is amended by removing Channel 281A and adding Channel 281C1 at Pearsall.

3. Section 73.202(b), the Table of FM Allotments under Texas, is amended by removing Channel 281A and adding Channel 265A at George West.

Federal Communications Commission.
John A. Karousos,
Chief, Allocations Branch, Policy and Rules Division, Mass Media Bureau.

[FR Doc. 00-24067 Filed 9-19-00; 8:45 am]

BILLING CODE 6712-01-P